DEPARTMENT OF HOMELAND SECURITY

Bureau of Customs and Border Protection

Notice of Cancellation of Customs Broker License Due to Death of the License Holder

AGENCY: Bureau of Customs and Border Protection, U.S. Department of Homeland Security.

ACTION: General notice.

SUMMARY: Notice is hereby given that, pursuant to Title 19 of the Code of Federal Regulations § 111.51(a), the following individual Customs broker licenses and any and all permits have been cancelled due to the death of the broker:

Name | License No. | Port name
Sun Ge Lam | 2407 | Honolulu.
Suzanne C. Noonan | 11021 | New York.
Gaspar F. Torres | 21062 | Otay Mesa.
Gene V. Gregg | 4150 | Los Angeles.

Dated: April 5, 2006.
Jayson P. Ahern,
Assistant Commissioner, Office of Field Operations.

[FR Doc. E6-5490 Filed 4-12-06; 8:45 am]

BILLING CODE 9111-14-P